ENVIRONMENTAL PROTECTION AGENCY

40 CFR Part 13

[EPA-HQ-OA-2014-0012; FRL-9913-63-OCFO]

Administrative Wage Garnishment

AGENCY: Environmental Protection Agency (EPA).

ACTION: Withdrawal of direct final rule.

SUMMARY: Due to the receipt of adverse comments, EPA is withdrawing the direct final rule for Administrative Wage Garnishment published in the Federal Register on July 2, 2014.

DATES: The direct final rule published at 79 FR 37644 on July 2, 2014 is withdrawn effective July 17, 2014.

FOR FURTHER INFORMATION CONTACT: FPPS c/o Anita Jones, OCFO/OFM/FPPS, Mailcode 2733R, Environmental Protection Agency, 1200 Pennsylvania Ave. NW., Washington, DC 20460; telephone number: (202) 564-4969; fax number: (202) 565-2585; email address: jones.anita@epa.gov.

SUPPLEMENTARY INFORMATION: Due to the receipt of adverse comments, EPA is withdrawing the direct final rule amending EPA's claims collection standards to include Administrative Wage Garnishment, which published in the Federal Register on July 2, 2014 (79 FR 37644). In the direct final rule, EPA stated that if adverse comments were received by August 1, 2014, the direct final rule would be withdrawn and not take effect. EPA received adverse comments on that direct final rule. EPA will address those comments in any subsequent final action, based upon the proposed rulemaking action, which was published in the Federal Register on July 2, 2014 (79 FR 37704).

List of Subjects in 40 CFR Part 13

Environmental protection, Administrative practice and procedure, Claims, Debt collection, Government employees, Garnishment of wages, Hearing and appeal procedures, Salaries, Wages.

Authority: 5 U.S.C. 552a, 5512, and 5514; 31 U.S.C. 3701; 31 U.S.C. 3711 et seq. and 3720A; 31 U.S.C. 3720D; 31 CFR 285.11; 31 CFR parts 900-904.

Dated: July 10, 2014.
Jeanne Conklin,
Acting Director Office of Financial Management.

PART 13—CLAIMS COLLECTION STANDARDS

Accordingly, the amendment to subpart I published in the Federal Register on July 2, 2014 (79 FR 37644) on page 37646 is withdrawn effective July 17, 2014.

[FR Doc. 2014-16808 Filed 7-16-14; 8:45 am]

BILLING CODE 6560-50-P